FEDERAL HOUSING FINANCE BOARD

Sunshine Act Meeting Notice; Announcing a Partially Open Meeting of the Board of Directors

Time and Date: The open portion of the meeting of the Board of Directors is scheduled to begin at 10 a.m. on Wednesday, April 14, 2004. The closed portion of the meeting will follow immediately the open portion of the meeting.

Place: Board Room, Second Floor, Federal Housing Finance Board, 1777 F Street, NW., Washington, DC 20006.

Status: The first portion of the meeting will be open to the public. The final portion of the meeting will be closed to the public.

Matters To Be Considered at the Open Portion of the Meeting: Federal Home Loan Bank of Topeka Capital Plan Amendment.

Matters To Be Considered at the Closed Portion of the Meeting: Further Consideration of Various Disclosure Initiatives and Supervisory Issues Regarding Enhanced Securities Disclosure.

Contact Person for More Information: Mary Gottlieb, Paralegal Specialist, Office of General Counsel, by telephone at 202/408-2826 or by electronic mail at gottliebm@fhfb.gov.

Dated: April 7, 2004.
By the Federal Housing Finance Board.
John Harry Jorgenson,
General Counsel.

[FR Doc. 04-8248 Filed 4-7-04; 2:49 pm]

BILLING CODE 6725-01-P